DEPARTMENT OF ENERGY

Federal Energy Regulatory Commission

[Project 2210-090]

Appalachian Power Company; Notice of Extension of Comment Period

October 2, 2003.

This notice applies to the Smith Mountain Pumped Storage Project, FERC No. 2210. The project is licensed to Appalachian Power Company, a part of American Electric Power and is located on the Roanoke River, in Bedford, Pittsylvania, Franklin, and Roanoke Counties, Virginia.

On September 10, 2003, a Notice of Application for Amendment of License and Soliciting Comments, Motions to Intervene, and Protests was issued for the amendment of license to approve a shoreline management plan filed on September 3, 2003. The comment period ends October 10, 2003. This notice extends the comment period for 90 days until January 10, 2004.

The Commission staff will prepare a Draft Environmental Assessment (DEA) of the application. Once this DEA is completed, it will be noticed to provide an opportunity for Federal, state, and local agencies, as well as the public, to provide comments. All comments will be used in preparing the Final Environmental Assessment to be considered by the Commission when acting on this application.

For further information, contact Heather Campbell at (202) 502-6182.

Magalie R. Salas,
Secretary.

[FR Doc. E3-00011 Filed 10-8-03; 8:45 am]

BILLING CODE 6717-01-P